ENVIRONMENTAL PROTECTION AGENCY

[IL 230-1; FRL-8532-9]

Notice of Prevention of Significant Deterioration Final Determination for Christian County Generation

AGENCY: Environmental Protection Agency (EPA).

ACTION: Notice.

SUMMARY: This notice announces that on January 28, 2008, the Environmental Appeals Board (EAB) of the EPA denied a petition for review of a Federal Prevention of Significant Deterioration (PSD) permit issued to Christian County Generation LLC, Christian County, Illinois, by the Illinois Environmental Protection Agency (IEPA).

DATES: The effective date for the EAB's decision is January 28, 2008. Pursuant to section 307(b)(1) of the Clean Air Act, 42 U.S.C. 7607(b)(1), judicial review of this permit decision, to the extent it is available, may be sought by filing a petition for review in the United States Court of Appeals for the Seventh Circuit within 60 days of April 22, 2008.

ADDRESSES: The documents relevant to this action are available for public inspection during normal business hours at the following address: Environmental Protection Agency, Region 5, Air and Radiation Division, 77 West Jackson Boulevard, Chicago, Illinois 60604. This facility is open from 8:30 a.m. to 4:30 p.m., Monday through Friday, excluding Federal holidays. We recommend that you telephone Constantine Blathras, Environmental Engineer, at (312) 886-0671 before visiting the Region 5 office.

FOR FURTHER INFORMATION CONTACT: Constantine Blathras, Environmental Engineer, Air Permits Section, Air Programs Branch (AR-18J), Environmental Protection Agency, Region 5, 77 West Jackson Boulevard, Chicago, Illinois 60604, (312) 886-0671, Blathras.constantine@epa.gov.

SUPPLEMENTARY INFORMATION: Throughout this document whenever “we,” “us,” or “our” is used, we mean EPA.

Notification of EAB Final Decision

The IEPA, acting under authority of a PSD delegation agreement, issued a PSD permit to the Christian County Generation LLC on June 5, 2007, granting approval to construct a 630 MW coal-fired Integrated Gasification Combined Cycle power plant in Christian County, Illinois. The Sierra Club filed a petition for review with the EAB on July 9, 2007. The EAB denied the petition on January 28, 2008.

Dated: February 13, 2008.
Bharat Mathur,
Acting Regional Administrator, Region 5.

[FR Doc. E8-3340 Filed 2-21-08; 8:45 am]

BILLING CODE 6560-50-P